DEPARTMENT OF THE INTERIOR

National Park Service

[NPS-WASO-NRNHL-DTS#-39332; PPWOCRADI0, PCU00RP14.R50000]

National Register of Historic Places; Notification of Pending Nominations and Related Actions

AGENCY: National Park Service, Interior.

ACTION: Notice.

SUMMARY: The National Park Service is soliciting electronic comments on the significance of properties nominated before January 4, 2025, for listing or related actions in the National Register of Historic Places.

DATES: Comments should be submitted electronically by January 28, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before January 4, 2025. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations Submitted by State or Tribal Historic Preservation Officers

Key: State, County, Property Name, Multiple Name (if applicable), Address/Boundary, City, Vicinity, Reference Number.

ARIZONA

Maricopa County

Camelback 32, 3241 East Camelback Road, Phoenix, SG100011361

CALIFORNIA

Marin County

Marconi Wireless-Synanon Tomales Bay Headquarters Historic District (Boundary Increase), 18500 CA 1, Marshall vicinity, BC100011433

GEORGIA

Chatham County

Savannah Powder Magazine, Ogeechee Road, Savannah vicinity, SG100011426

Effingham County

Ash Farmhouse, 8603 Old Louisville Road, Newington vicinity, SG100011427

IOWA

Linn County

Klinsky Farmstead Historic District, 1534 Ivanhoe Road, Ely, SG100011413

Mahaska County

Russell, Chuck and Emily, House, 211 Hillcrest Drive, Oskaloosa, SG100011414

Polk County

Financial Center Office Building, 207 Seventh Street, Des Moines, SG100011415

Ruan Center & Carriers Building, 666 Grand Avenue & 601 Locust Street, Des Moines, SG100011416

MARYLAND

Baltimore Independent City

Arch Social Club, (Civil Rights in Baltimore, Maryland, 1831-1976 MPS), 2426 Pennsylvania Avenue, Baltimore, MP100011434

Cecil County

West Nottingham Presbyterian Church Complex, 1195 Firetower Road, Colora, SG100011349

Charles County

Bel Alton High School, 9501 Crain Highway, Bel Alton, SG100011395

Frederick County

Frederick Historic District (Boundary Increase), Roughly bounded by Bentz, Seventh, East, and South Streets, Frederick, BC100011393

Prince George's County

Bladensburg Battlefield, Address Restricted, Bladensburg vicinity, SG100011428

MASSACHUSETTS

Barnstable County

Travelers Club, 314 Barlows Landing Road, Bourne, SG100011423

Bristol County

Monsignor James Coyle High School, 61 Summer Street, Taunton, SG100011424

Norfolk County

George E. Keith Company Factory No. 8, 44 Wharf Street, Weymouth, SG100011425

MINNESOTA

Hennepin County

Oskam, Hendrik and Marrigje (Marri), House, 6901 Dakota Trail, Edina, SG100011339

Otter Tail County

Foss, Ole and Anne, House, 301 Foss Street North, Underwood, SG100011340

MISSISSIPPI

Hancock County

Holly Bluff on-the-Jordan, 6670 Crump Road, Kiln vicinity, SG100011347

Lee County

Downtown Tupelo Historic District (Boundary Increase), Roughly bounded by Clark Street, Kansas City Railroad line, North Santa Fe Railroad line, and South Church St., Tupelo, BC100011392

MISSOURI

Gasconade County

Hermann High School, 808 Washington Street, Hermann, SG100011397

Greene County

Roberts Farmstead, 1120 South Farm Road 193 (primary); 715 South Farm Road 193, Springfiled, SG100011400

Howell County

Lincoln School, 1400 E. Pony Thomas Street, West Plains, SG100011398

Jackson County

Mayfair Apartment Hotel, (Working-Class and Middle-Income Apartment Buildings in Kansas City, Missouri MPS), 1224 East Linwood Boulevard, Kansas City, MP100011399

Perry County

Faherty House, 11 South Spring Street, Perryville, SG100011396

MONTANA

Park County

Gardiner Bridge, Milepost 0.1 on U.S. Highway 89/Second Street, Gardiner, SG100011446

Silver Bow County

Castle Rock Lodge, 665 Little Basin Creek Rd., Butte, SG100011341

NEW YORK

Allegany County

The Little Genesee Schoolhouse-Genesee District No. 1 School, 8351 State Route 417, Little Genesee, SG100011343

The Village of Wellsville East Historic District, Roughly Bounded by Genesee Pkwy; Bolivar Rd.; Coats St.; Johnson St.; E Genesee St.; O'Connor St.; Scott Ave.; Wheeler Place; Windover E &W; and E Dyke St., Wellsville, SG100011345

Bronx County

Joseph Rodman Drake Park and Enslaved People's Burial Ground, Oak Point Ave., Drake Park South, Longfellow Ave., and Hunts Point Ave., Bronx, SG100011418

Eastchester Houses, Generally, Burke Avenue, Bouck Avenue, Adee Avenue, Yates Avenue, Bronx, SG100011441

Livingston County

Nunda Village Historic District, Buffalo St, Center St, East St, Fair St, First St, Fourth St, Gibbs St, Holmes St, Massachusetts St, Mill St, North Church St, North State St, Portage St, Price St, Second St, Seward St, South Church St, South State St, Vermont St, West St, Nunda, SG100011419

New York County

Hotel Martinique, 49 West 32nd Street, New York, SG100011342

Oneida County

Rome Residential Historic District, Roughly bounded by West Cedar St, North James St, West Liberty St and North Madison St, Rome, SG100011346

Onondaga County

Westcott-University Neighborhood Historic District, (Architecture of Ward Wellington Ward in Syracuse MPS), Bounded by portions of Madison St, Bassett St, East Genesee St, Cumberland Ave, Westmoreland Ave, Euclid Ave, Montana St, Dakota St, Kensington Rd, Westcott St, Broad St, Lancaster Ave, Ackerman Ave, Stratford St, etc., Syracuse, MP100011439

Orleans County

Childs Historic District, (Cobblestone Architecture of New York State MPS), Portions of Ridge Road and Oak Orchard Road, Childs vicinity, MP100011442

Otsego County

Tuttle-Peck House, 838 Pegg Road, New Lisbon, SG100011420

Richmond County

Temple Israel Reform Congregation, 315 Forest Ave, Staten Island, SG100011421

Schuyler County

Lawrence Memorial Chapel and Cemetery, 2770 State Route 228, Catharine, SG100011344

Steuben County

St. Vincent de Paul Roman Catholic Church Complex, 222 Dodge Avenue, 109 Ellicott Street, and 108 Griffith Street, Corning, SG100011440

Tompkins County

Lavender Hill Commune, 327 Tupper Road, Newfield, SG100011422

OHIO

Cuyahoga County

Calvary Presbyterian Church, (Twentieth-Century African American Civil Rights Movement in Ohio MPS), 7812 Euclid Ave, Cleveland, MP100011407

Licking County

Contract Airmail Route 34 Columbus-Philadelphia Route Marker 2, 530 Heath Road, Heath, SG100011411

Richland County

Ohio Brass Company Office Building, 380 N Main Street, Mansfield, SG100011412

OREGON

Clackamas County

McLean, Dr. Edward and Anne, House, 5350 River Street, West Linn, SG100011430

Jackson County

Lee-Janouch House, 1202 East Main Street, Medford, SG100011431

Multnomah County

Burkes-Belluschi House, 700 NW Rapidan Terrace, Portland, SG100011447

Juniper House, 2006 SE Ankeny Street, Portland, SG100011448

PENNSYLVANIA

Philadelphia County

Weisbrod & Hess Brewery, 2421 Martha Street; 2423-39 Amber Street, Philadelphia, SG100011438

PUERTO RICO

Juncos Municipality

Cárcel Municipal de Juncos, Calle Agüeybaná Esq. calle Baldorioty, Juncos, SG100011436

RHODE ISLAND

Bristol County

Allin, General Thomas, House, 20 Lincoln Avenue, Barrington, SG100011435

SOUTH CAROLINA

Chester County

Finley High School, (Equalization Schools in South Carolina, 1951-1960), 112 Caldwell Street, Chester, MP100011403

Florence County

Green's Funeral Home and Ambulance Service, 433 Ward Street, Lake City, SG100011408

TEXAS

Harris County

Humble-Exxon Building, 800 Bell Street and 1616 Milam Street, Houston, SG100011429

WISCONSIN

Pierce County

Grimm, Jay and Bernice, House, 108 South Sixth Street, River Falls, SG100011401

A request for removal has been made for the following resource(s):

MINNESOTA

Big Stone County

District No. 13 School, CR 25, Correll vicinity, OT85001772

Dakota County

Good Templars Hall, 9965 124th St. E., Hastings vicinity, OT79001234

OKLAHOMA

Woods County

Alva Municipal Swimming Pool and Bathhouse, 1402 Flynn St., Alva, OT100008455

Additional documentation has been received for the following resource(s):

CALIFORNIA

Marin County

Marconi Wireless-Synanon Tomales Bay Headquarters Historic District (Additional Documentation), 18500 CA 1, Marshall vicinity, AD88003223

COLORADO

Pueblo County

Stickney, Charles H., House (Additional Documentation), 101 E Orman Ave., Pueblo, AD85000232

MARYLAND

Frederick County

Frederick Historic District (Additional Documentation), 2 blocks E and 3 blocks W of Market St., from South St. to 7th St., Frederick, AD73000916

MASSACHUSETTS

Berkshire County

Clinton African Methodist Episcopal Zion Church (Additional Documentation), 9 Elm Ct., Great Barrington, AD08000464

OKLAHOMA

Blaine County

Dusbabek Filling Station (Additional Documentation), 101 N Main Street, Okeene, AD100010776

PENNSYLVANIA

Clearfield County

Old Town Historic District (Additional Documentation), Irregular pattern along Front St., Clearfield, AD79002212

Authority: Section 60.13 of 36 CFR part 60.

Sherry A. Frear,
Chief, National Register of Historic Places/National Historic Landmarks Program.

[FR Doc. 2025-00442 Filed 1-10-25; 8:45 am]

BILLING CODE 4312-52-P